DEPARTMENT OF JUSTICE

Notice of Lodging of Consent Decree Under the Clean Air Act and the Emergency Planning and Community Right to Know Act.

Notice is hereby given that on May 23, 2012, a proposed Consent Decree (“Decree”) in United States v. BP Products North America, Civil Action No. 2:12-cv-207, was lodged with the United States District Court for the Northern District of Indiana.

The settlement relates to BP Products North America Inc.'s (“BP Products”) petroleum refinery located in Whiting, Indiana (the “Whiting Refinery”)

The proposed Consent Decree resolves claims of the United States under the Clean Air Act and under the Emergency Planning and Community Right to Know Act related to the Whiting Refinery. Under the proposed Consent Decree, BP Products will pay a civil penalty in the amount of $7.2 million to the United States and $800,000 to the State of Indiana. In addition, the Consent Decree imposes emission limits on several pollutants at multiple units, requires the installation of flare gas recovery systems and improved flaring efficiency, and enhanced controls for leak detection and repair and benzene-containing wastewater. The Consent Decree includes a supplemental environmental project requiring BP to install four monitoring stations at the boundary of the property, and to provide the monitoring data to a publicly available Web site on a weekly basis. The Consent Decree also requires BP Products to spend $9.5 million on energy efficiency projects at the Whiting Refinery to reduce greenhouse gas emissions.

The Department of Justice will receive for a period of thirty (30) days from the date of this publication comments relating to the Decree. Comments should be addressed to the Assistant Attorney General, Environmental and Natural Resources Division, and either emailed to pubcomment-ees.enrd@usdoj.gov or mailed to P.O. Box 7611, U.S. Department of Justice, Washington, DC 20044-7611, and should refer to United States v. BP Products North America, Inc., Civil Action No. 2:12-207, DJ Ref. 90-5-2-1-09244.

During the public comment period, the Consent Decree also may be examined on the following Department of Justice Web site: http://www.usdoj.gov/enrd/Consent_Decrees.html. A copy of the Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library, please enclose a check in the amount of $81.00 (25 cents per page reproduction cost) payable to the U.S. Treasury or, if by email or fax, forward a check in that amount to the Consent Decree Library at the address given above. If requesting a copy exclusive of exhibits, please enclose a check in the amount of $35.00.

Robert Brook,
Assistant Chief, Environmental Enforcement Section, Environment and Natural Resources Division.

[FR Doc. 2012-13094 Filed 5-30-12; 8:45 am]

BILLING CODE 4410-15-P